DEPARTMENT OF AGRICULTURE

Rural Housing Service

Rural Business Cooperative Service

Rural Utilities Service

Farm Service Agency

7 CFR Part 1942

Associations—Community Facilities Loans

Correction

In rule document 02-24621 beginning on page 60853 in the issue of Friday, Sepetmber 27, 2002, make the following correction:

§1942.5 [Corrected]

On page 60854, in the first column, in §1942.5, after paragraph (a)(2), in the next paragraph, in the first line, “(1)” should read “(3)”.

[FR Doc. C2-24621 Filed 10-8-02; 8:45 am]

BILLING CODE 1505-01-D

DEPARTMENT OF DEFENSE

Department of the Army

Board of Visitors, United States Military Academy

Correction

In notice document 02-25180 appearing on page 62038 in the issue of Thursday, October 3, 2002, make the following correction:

On page 62038, in the second column, under the heading “Date”, “November 18, 2002” should read “November 8, 2002”.

[FR Doc. C2-25180 Filed 10-8-02; 8:45 am]

BILLING CODE 1505-01-D

DEPARTMENT OF TRANSPORTATION

Federal Motor Carrier Safety Administration

49 CFR Parts 350 and 390

Motor Carrier Safety Regulations; Technical Amendments

Correction

In rule document 02-24728 beginning on page 61818 in the issue of Wednesday, October 2, 2002, make the following corrections:

§ 350.213 [Corrected]

1. On page 61820, in the third column, in § 350.213, in the second line, “§ 350.201(1)” should read, “§ 350.201(q)”.

§ 390.27 [Corrected]

2. On page 61824, in the first column, in § 390.27, in “Note 1”, in the third line, “(State” should read, “(State)”.

[FR Doc. C2-24728 Filed 10-8-02; 8:45 am]

BILLING CODE 1505-01-D